COMMISSION ON CIVIL RIGHTS

Sunshine Act Meetings

AGENCY: Commission on the Social Status of Black Men and Boys (CSSBMB), U.S. Commission on Civil Rights.

ACTION: Notice of meeting.

DATES: Tuesday, March 11, 2:00 p.m. EST.

ADDRESSES: Meeting to take place virtually and is open to the public via livestream on the Commission's YouTube page: www.youtube.com/usccr.

FOR FURTHER INFORMATION CONTACT: Diamond Newman, 202-339-2371, dnewman@usccr.gov.

SUPPLEMENTARY INFORMATION: In accordance with Public Law 116-156, 1134 Stat. 700 (2020), the Commission on the Social Status of Black Men and Boys (CSSBMB) will hold its Second Quarter Business Meeting exploring CSSBMB business items, operations, and next steps. This business meeting is open to the public via livestream on the Commission on Civil Rights' YouTube Page at: www.youtube.com/usccr. (Streaming information subject to change.)

Public participation is available for the event with view access, along with an audio option for listening. Computer assisted real-time transcription (CART) will be provided. The web link to access CART (in English) on March 11 is https://www.streamtext.net/player?event=CSSBMB. Please note that CART is text-only translation that occurs in real time during the meeting and is not an exact transcript

* Date and meeting details are subject to change. For more information on the CSSBMB or the upcoming public briefing, please visit www.usccr.gov/CSSBMB and CSSBMB's Instagram, Facebook, and X.

* Briefing Agenda

TBD

TinaLouise Martin,
Director of Management.

[FR Doc. 2025-03950 Filed 3-7-25; 4:15 pm]

BILLING CODE 6335-01-P